DEPARTMENT OF HOMELAND SECURITY

Coast Guard

33 CFR Part 117

[Docket No. USCG-2009-0546]

Drawbridge Operation Regulations; Annisquam River and Blynman Canal, Gloucester, MA, Public Event

AGENCY: Coast Guard, DHS.

ACTION: Notice of temporary deviation from regulations.

SUMMARY: The Commander, First Coast Guard District, has issued a temporary deviation from the regulation governing the operation of the Blynman (SR127) Bridge across the Blynman Canal at mile 0.0, at Gloucester, Massachusetts. This deviation is necessary to facilitate the 2009 Gloucester Triathlon. The deviation allows the bridge to remain in the closed position during this public event in the interest of public safety.

DATES: This deviation is effective from 9 a.m. through 11 a.m. on August 9, 2009.

ADDRESSES: Documents mentioned in this preamble as being available in the docket are part of docket USCG-2009-0546 and are available online at http://www.regulations.gov, selecting the Advanced Docket Search option on the right side of the screen, inserting USCG-2009-0546 in the docket ID box, pressing enter, and then clicking on the item in the Docket ID column. This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. John McDonald, Project Officer, First Coast Guard District, telephone (617) 223-8364, john.w.mcdonald@uscg.mil. If you have questions on viewing the docket, call Renee V. Wright, Program Manager, Docket Operations, telephone 202-366-9826.

SUPPLEMENTARY INFORMATION: The Blynman (SR127) Bridge, across the Blynman Canal at mile 0.0, at Gloucester, has a vertical clearance in the closed position of 7 feet at mean high water and 16 feet at mean low water. The existing drawbridge operation regulations are listed at 33 CFR 117.586.

The waterway supports both commercial and seasonal recreational vessel traffic.

Under this deviation the Blynman (SR127) Bridge may remain in the closed position from 9 a.m. through 11 a.m. on August 9, 2009, to facilitate a public event, the 2009 Gloucester Triathlon. Vessels that can pass under the closed draws may do so at any time.

This deviation is necessary for public safety, to facilitate vehicular traffic management during the 2009 Gloucester Triathlon.

In accordance with 33 CFR 117.35(e), the bridge must return to its regular operating schedule immediately at the end of the designated time period. This deviation from the operating regulations is authorized under 33 CFR 117.35.

Dated: June 23, 2009.
Gary Kassof,
Bridge Program Manager, First Coast Guard District.

[FR Doc. E9-16395 Filed 7-9-09; 8:45 am]

BILLING CODE 4910-15-P